COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete product(s) and service(s) from the Procurement List that were furnished by nonprofit agencies employing persons who are blind or have other severe disabilities.

DATES: Comments must be received on or before: March 16, 2025.

ADDRESSES: Committee for Purchase From People Who Are Blind or Severely Disabled, 355 E Street SW, Suite 325, Washington, DC 20024.

FOR FURTHER INFORMATION CONTACT: For further information or to submit comments contact: Michael R. Jurkowski, telephone: (703) 489-1322, or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following product(s) and service(s) are proposed for deletion from the Procurement List:

Product(s)

NSN(s)—Product Name(s):

7930-00-357-7386—Detergent, General Purpose, Cleaner/Degreaser, Biodegradable, Ready-to-Use, 22 oz Spray Bottles

Authorized Source of Supply: Lighthouse for the Blind and Visually Impaired, San Francisco, CA

Contracting Activity: GSA/FSS GREATER SOUTHWEST ACQUISITI, FORT WORTH, TX

Service(s)

Service Type: Custodial and Related Services

Mandatory for: GSA PBS Region 8, Forest Service Building, Ogden, UT

Authorized Source of Supply: EnableUtah, Ogden, UT

Contracting Activity: PUBLIC BUILDINGS SERVICE, PBS R8

Service Type: Grounds Maintenance

Mandatory for: Department of Veterans Affairs, VA Nebraska-Western Iowa Health Care System, Grand Island Division, Grand Island, NE

Authorized Source of Supply: Goodwill Specialty Services, Inc., Omaha, NE

Contracting Activity: VETERANS AFFAIRS, DEPARTMENT OF, 438-SIOUX FALLS VA MED CTR (00438)

Michael R. Jurkowski,
Director, Business Operations.

[FR Doc. 2025-02631 Filed 2-13-25; 8:45 am]

BILLING CODE 6353-01-P